DEPARTMENT OF HEALTH AND HUMAN SERVICES

Food and Drug Administration

21 CFR Part 573

[Docket No. FDA-2008-F-0151]

Food Additives Permitted in Feed and Drinking Water of Animals; Ammonium Formate

AGENCY: Food and Drug Administration, HHS.

ACTION: Final rule; correcting amendment.

SUMMARY: The Food and Drug Administration (FDA) is amending the regulations for food additives permitted in feed and drinking water of animals to correct the description of ammonium formate used as an acidifying agent in swine feed. This action is being taken to improve the accuracy of the regulations.

DATES: This rule is effective July 17, 2013.

FOR FURTHER INFORMATION CONTACT: George K. Haibel, Center for Veterinary Medicine (HFV-6), Food and Drug Administration, 7519 Standish Pl., Rockville, MD 20855, 240-276-9019, email: ghaibel@fda.hhs.gov.

SUPPLEMENTARY INFORMATION: FDA has noticed the regulations for food additives permitted in feed and drinking water of animals do not correctly describe ammonium formate used as an acidifying agent in swine feed. At this time, FDA is making a correcting amendment. This action is being taken to improve the accuracy of the regulations.

List of Subjects in 21 CFR Part 573

Animal feeds, Food additives.

Therefore, under the Federal Food, Drug, and Cosmetic Act and under authority delegated to the Commissioner of Food and Drugs and redelegated to the Center for Veterinary Medicine, 21 CFR part 573 is amended as follows:

PART 573—FOOD ADDITIVES PERMITTED IN FEED AND DRINKING WATER OF ANIMALS

1. The authority citation for 21 CFR part 573 continues to read as follows:

Authority: 21 U.S.C. 321, 342, 348.

2. Revise the introductory text of § 573.170 to read as follows:

§ 573.170 Ammonium formate.

The food additive, ammonium formate, may be safely used in the manufacture of complete swine feeds in accordance with the following prescribed conditions:

* * * * *

Dated: July 11, 2013.
Bernadette Dunham,
Director, Center for Veterinary Medicine.

[FR Doc. 2013-17106 Filed 7-16-13; 8:45 am]

BILLING CODE 4160-01-P